DEPARTMENT OF ENERGY

[Docket No. RP02-362-003] PG&E Gas Transmission, Northwest Corporation; Notice of Compliance Filing

Federal Energy Regulatory Commission

February 7, 2003.

Take notice that on February 5, 2003, PG&E Gas Transmission, Northwest Corporation (GTN), tendered for filing to be part of its FERC Gas Tariff, Second Revised Volume No. 1-A, Third Revised Sheet No. 127 and Fourth Revised Sheet No. 128, with an effective date of November 14, 2002.

GTN states that these tariff sheets are being submitted to comply with the Commission's January 16, 2003, Order Accepting Compliance Filing, Subject to Conditions, in Docket Nos. RP02-362-001 and RP02-362-002. This proceeding involves proposed tariff changes by PG&E Gas Transmission, Northwest Corporation (“GTN”) that allow the pipeline to sell capacity on a pre-arranged basis.

GTN further states that a copy of this filing has been served on GTN's jurisdictional customers and interested state regulatory agencies.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 18, 2003.

Magalie R. Salas,
Secretary.

[FR Doc. 03-3659 Filed 2-13-03; 8:45 am]

BILLING CODE 6717-01-P